DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: West Coast Region Vessel Monitoring System and Pre-Trip Reporting System Requirements.

OMB Control Number: 0648-0498.

Form Number(s): None.

Type of Request: Regular (revision and extension of a currently approved information collection).

Number of Respondents: 36.

Average Hours per Response: Vessel monitoring system (VMS) installation, 4 hours; VMS activation reports, on/off notifications and pre-trip reports, 5 minutes each; maintenance and repair, 60 minutes.

Burden Hours: 88.

Needs and Uses: This request is for revision and extension of a current information collection. The title will change from West Coast Region Longline Monitoring System and Pre-Trip Reporting Requirements to West Coast Region Vessel Monitoring System and Pre-trip Reporting Requirements. In addition, this collection will merge OMB Control Number 0648-0690 (Vessel Monitoring System Requirements in the Eastern Pacific Highly Migratory Species Fisheries) into this information collection.

This collection applies to owners and operators of U.S. commercial fishing vessels that fish in the West Coast exclusive economic zone and the eastern Pacific Ocean waters of the Inter-American Tropical Tuna Commission (IATTC) Convention Area for highly migratory species (HMS) as defined by the Fishery Management Plan (FMP) for United States (U.S.) West Coast Fisheries for Highly Migratory Species, as well as a broader group of tuna and tuna-like species covered by the IATTC. These vessel owners and operators are required to submit information about their intended and actual fishing activities. These submissions would allow the National Marine Fisheries Service (NMFS) and the Pacific Fisheries Management Council to monitor the fisheries. Submissions include pre-trip reporting requirements and vessel monitoring systems (VMS). Pre-trip reporting requirements are essential for effectively and efficiently assigning available observer coverage to selected HMS vessels. Data collected by observers are critical to evaluate that the objectives of the HMS FMP are being achieved and for evaluating the impacts of potential changes in fishery management. VMS units facilitate enforcement of management measures associated with HMS fisheries, provide timely information on associated fleet activities and enable confirmation of reported vessel fishing activity locations, which help validate logbook record accuracy.

Affected Public: Business or other for-proft organizations.

Frequency: One time, annually and on occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: April 27, 2017.
Sarah Brabson,
NOAA PRA Clearance Officer.

[FR Doc. 2017-08837 Filed 5-1-17; 8:45 am]

BILLING CODE 3510-22-P